DEPARTMENT OF TRANSPORTATION

Federal Railroad Administration

[Docket No. FRA-2023-0066, Notice No. 2]

Petition for Waiver of Compliance and Notice of Public Hearing

AGENCY: Federal Railroad Administration (FRA), Department of Transportation (DOT).

ACTION: Announcement of public hearing and extension of comment period.

SUMMARY: On January 16, 2024, FRA published a public notice announcing that on August 10, 2023, Georgia Central Railway, L.P. and Heart of Georgia Railroad, Inc. (Petitioners) submitted a request to FRA for approval of a test program, and the temporary suspension of certain FRA safety regulations in connection with that program (Program). In this notice, FRA is announcing a public hearing to allow interested persons the opportunity to provide comments on the petition. FRA is also announcing a 14-day extension of the comment period to allow time for interested parties to submit comments on the petition or in response to views or information provided at the public hearing.

DATES:

(1) A public hearing will be held on March 12, 2024, from 1 p.m. (ET) to 5 p.m. (ET) in Vidalia, GA, and through one or more internet links.

(2) Comments: FRA must receive comments on the petition, or in response to views or information provided at the public hearing, by April 1, 2024. FRA will consider comments received after that date to the extent practicable.

ADDRESSES:

Public Hearing: The public hearing will allow for participation in-person or virtually. For those participants that prefer to appear in person, the public hearing will be held at the Vidalia Community Center, 107 Old Airport Road, Vidalia, GA 30474. For those participants wishing to make a statement at the public hearing, either in-person or virtually, please contact FRA as described under the Public Participation Procedures heading in the SUPPLEMENTARY INFORMATION section of this document. Any person who wants to participate or observe the public hearing virtually can visit https://railroads.dot.gov/hog-gc-hearingfor the web address and hyperlink.

Comments: Comments related to Docket No. FRA-2023-0066 may be submitted by going to https://www.regulations.gov and following the online instructions for submitting comments.

Instructions: All submissions must include the agency name and docket number (FRA-2023-0066). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Matthew Brewer, Staff Director—Engineering and Technology Division, Federal Railroad Administration, telephone: 509-994-1978, email: matthew.brewer@dot.gov; or Veronica Chittim, Attorney Advisor, Federal Railroad Administration, telephone: 202-480-3410, email: veronica.chittim@dot.gov.

SUPPLEMENTARY INFORMATION: The purpose of this hearing is to receive comments in response to a petition for approval of a test program and the temporary suspension of certain FRA safety regulations in connection with that Program, including certain statutory requirements that would require FRA to exercise its authority under 49 U.S.C. 20306 to exempt the rail equipment involved from the requirements of 49 U.S.C. 20302. Petitioners should be present at the hearing and prepared to present evidence that any requirements of chapter 203, title 49, U.S.C., for which exemption is sought “preclude the development or implementation of more efficient railroad transportation.”

Interested parties are invited to present statements and to offer information and views at the hearing. The hearing will be an informal, non-adversarial proceeding conducted by a representative FRA designates under FRA's Rules of Practice (49 CFR 211.25). Therefore, there will be no cross-examination of persons presenting statements or offering information. An FRA representative will make an opening statement outlining the scope of the hearing. Interested parties will then be provided with an opportunity to make initial statements. After all initial statements are completed, those persons wishing to make a brief rebuttal will be given the opportunity to do so, in the same order in which the initial statements were made. FRA will announce any additional procedures necessary at the hearing.

There will be a court reporter to record and transcribe comments presented verbatim at the hearing. FRA will add the verbatim transcript of the discussions to the public docket in this proceeding.

Public Participation Procedures

Any person: (1) wishing to attend the hearing in person, (2) make a statement at the hearing either in-person or virtually, or (3) both, should notify FRA by contacting Ms. Shari Carney, Transportation Analyst, by email at shari.carney@dot.gov, no later than March 8, 2024, providing the following information, as applicable:

(a) The name, affiliation or party represented, email address, and phone number of the participant.

(b) Whether the participant is attending in person or virtually.

(c) The subject(s) of the statement and/or presentation the participant wishes to make, and the amount of time requested.

(d) A copy of the oral statement and/or presentation, if available.

FRA reserves the right to limit participation in the hearing of persons who fail to follow the public participation procedures as outlined above, or additional procedures announced at the hearing. FRA also reserves the right to limit the duration of presentations, as necessary, to afford all persons the opportunity to speak, or to limit participation in the hearing of persons who exceed their allotted time or who discuss topics or issues outside the scope of the petition. Further, FRA reserves the right to limit in-person attendance at the hearing, as space is limited; preference in attendance will be provided to persons requesting to present statements in person.

FRA is committed to providing equal access to this meeting for all participants. If you need alternative formats or other reasonable accommodations to participate in this meeting, either in-person or virtually, please contact FRA Transportation Analyst Ms. Shari Carney, by email at shari.carney@dot.gov, no later than March 8, 2024.

Extension of Comment Period

FRA is extending the comment period by 14 days to April 1, 2024, to allow time for interested parties to submit written comments on the proposal or in response to views or information provided at the public hearing.

Privacy Act

In accordance with FRA Order 1100.14G, FRA solicits comments from the public to better inform its disposition of waivers, exemptions, block signal applications, and other special approvals under the Federal railroad safety laws and regulations and in accordance with FRA's Rules of Practice (title 49 Code of Federal Regulations (CFR) part 211). DOT posts these comments, without edit, to www.regulations.gov, under docket number FRA-2023-0066, as described in the system of records notice, DOT/ALL-14 FDMS, accessible through https://www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

Issued in Washington, DC.
John Karl Alexy,
Associate Administrator for Railroad Safety, Chief Safety Officer.

[FR Doc. 2024-02501 Filed 2-6-24; 8:45 am]

BILLING CODE 4910-06-P